GENERAL SERVICES ADMINISTRATION

[OMB Control No. 3090-0006]

Submission for OMB Review and Extension GSAR Clause, 552.237-71, Qualifications of Employees

AGENCY: General Services Administration (GSA).

ACTION: Notice of emergency reinstatement and request for public comments of the reinstated collection 3090-0006.

SUMMARY: Under the provisions of the Paperwork Reduction Act of 1995 (44 U.S.C. Chapter 35), the General Services Administration requested in August 2001 that the Office of Management and Budget (OMB) reinstate an information collection that pertains to GSAR Clause, Qualifications of Employees. OMB reinstated the collection November 2001. Information collected under this authority is required by regulation. This notice indicates GSA's intent to request an extension by 3 years of OMB's emergency reinstatement of this collection and to request public review and comment on the collection.

Public comments are particularly invited on: Whether this information collection generated by the GSAR Clause, Qualifications of Employees, is necessary for security reasons, to properly determine if an employee is suitable to work under a GSA service contract for guards, child care, cleaning, and maintenance contract; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Comments may be submitted on or before March 4, 2002.

FOR FURTHER INFORMATION CONTACT: Julia Wise, Acquisition Policy Division, GSA (202) 208-1168.

ADDRESSES: Submit comments regarding this burden estimate or any other aspect of this collection of information, including suggestions for reducing this burden to Stephanie Morris, General Services Administration (MVP), Room 4035, 1800 F Street, NW., Washington, DC 20405.

SUPPLEMENTARY INFORMATION:

A. Purpose

The General Services Administration has various mission responsibilities related to the acquisition and provision of service contracts. These mission responsibilities generate requirements that are realized through the solicitation and award of service contracts for guards, childcare, cleaning, and maintenance. Individual solicitations and resulting contracts may impose unique information collection/reporting requirements on contractors, not required by regulation, but necessary to evaluate particular program accomplishments and measure success in meeting program objectives.

B. Annual Reporting Burden

Respondents: 15,496.

Responses Per Respondent: 1.

Total Responses: 15,496.

Hours Per Response: 1.

Total Burden Hours: 15,496.

Obtaining Copies of Proposals: A copy of this proposal may be obtained from the General Services Administration, Acquisition Policy Division (MVP), Room 4035, 1800 F Street, NW., Washington, DC 20405, or by telephoning (202) 501-4744, or by faxing your request to (202) 501-4067. Plese cite OMB Control No. 3090-0006, Qualifications of Employees, in all correspondence.

Dated: December 21, 2001.
Michael Carleton,
Chief Information Officer.

[FR Doc. 02-120 Filed 1-3-02; 8:45 am]

BILLING CODE 6820-61-M